DEPARTMENT OF ENERGY

Federal Energy Regulatory Commission

Combined Notice of Filings #1

Take notice that the Commission received the following electric rate filings:

Docket Numbers: ER26-110-000.

Applicants: Chugwater Wind, LLC.

Description: Amendment to 10/10/2025 Chugwater Wind, LLC tariff filing.

Filed Date: 11/25/25.

Accession Number: 20251125-5375.

Comment Date: 5 p.m. ET 12/5/25.

Docket Numbers: ER26-615-000.

Applicants: Atlas Solar Manager, LLC.

Description: § 205(d) Rate Filing: Normal filing SFA common 2025 update to be effective 11/28/2025.

Filed Date: 11/26/25.

Accession Number: 20251126-5377.

Comment Date: 5 p.m. ET 12/17/25.

Docket Numbers: ER26-616-000.

Applicants: Atlas Solar Manager, LLC.

Description: § 205(d) Rate Filing: Normal filing SFA substation 1 filing update to be effective 11/28/2025.

Filed Date: 11/26/25.

Accession Number: 20251126-5386.

Comment Date: 5 p.m. ET 12/17/25.

Docket Numbers: ER26-617-000.

Applicants: New England Power Pool Participants Committee.

Description: § 205(d) Rate Filing: Dec 2025 Membership Filing to be effective 12/1/2025.

Filed Date: 11/26/25.

Accession Number: 20251126-5392.

Comment Date: 5 p.m. ET 12/17/25.

Docket Numbers: ER26-618-000.

Applicants: Atlas Solar Manager, LLC.

Description: § 205(d) Rate Filing: Normal filing Co-Tenancy Agreement update 2025—final to be effective 11/28/2025.

Filed Date: 11/28/25.

Accession Number: 20251128-5062.

Comment Date: 5 p.m. ET 12/19/25.

Take notice that the Commission received the following electric securities filings:

Docket Numbers: ES26-17-000.

Applicants: ITC Midwest LLC.

Description: Application Under Section 204 of the Federal Power Act for Authorization to Issue Securities of ITC Midwest.

Filed Date: 11/25/25.

Accession Number: 20251125-5370.

Comment Date: 5 p.m. ET 12/16/25.

Docket Numbers: ES26-18-000.

Applicants: Great Basin Transmission, LLC.

Description: Application Under Section 204 of the Federal Power Act for Authorization to Issue Securities of Great Basin Transmission, LLC.

Filed Date: 11/24/25.

Accession Number: 20251124-5500.

Comment Date: 5 p.m. ET 12/15/25.

Docket Numbers: ES26-19-000.

Applicants: ALLETE, Inc.

Description: Application Under Section 204 of the Federal Power Act for Authorization to Issue Securities of ALLETE, Inc.

Filed Date: 11/25/25.

Accession Number: 20251125-5372.

Comment Date: 5 p.m. ET 12/16/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: November 28, 2025.
Carlos D. Clay,
Deputy Secretary.

[FR Doc. 2025-21796 Filed 12-2-25; 8:45 am]

BILLING CODE 6717-01-P